DEPARTMENT OF ENERGY

[OE Docket No. PP-317]

Application for Presidential Permit; AEP Texas Central Company; Request To Rescind Presidential Permit; Comission Federal de Electricidad

AGENCY: Office of Electricity Delivery and Energy Reliability, DOE.

ACTION: Notice of application; request for rescission.

SUMMARY: AEP Texas Central Company (TCC) has applied for a Presidential permit to construct, operate, maintain, and connect an electric transmission line across the U.S. border with Mexico. In the same application, Comision Federal de Electricidad (CFE), the national electric utility of Mexico, has requested a rescission of Presidential Permit No. PP-57.

DATES: Comments, protests, or requests to intervene must be submitted on or before July 20, 2006.

ADDRESSES: Comments, protests, or requests to intervene should be addressed as follows: Office of Electricity Delivery and Energy Reliability (OE-20), U.S. Department of Energy, 1000 Independence Avenue, SW., Washington, DC 20585-0350.

FOR FURTHER INFORMATION CONTACT: Ellen Russell (Program Office), 202-586-9624 or Michael T. Skinker (Program Attorney), 202-586-2793.

SUPPLEMENTARY INFORMATION: The construction, operation, maintenance, and connection of facilities at the international border of the United States for the transmission of electric energy between the United States and a foreign country is prohibited in the absence of a Presidential permit issued pursuant to Executive Order (EO) 10485, as amended by EO 12038.

On January 24, 1975, the Federal Power Commission, predecessor agency of the Department of Energy, in Docket No. E-8057, now Presidential Permit No. PP-57, authorized CFE to construct, operate, maintain, and connect a 138,000-volt (138-kV) electric transmission line across the U.S.-Mexico international border in the vicinity of Loredo, Texas.

On June 12, 2006, American Electric Power Service Corporation (AEPSC), acting as the agent for TCC, formerly doing business as Central Power and Light Company (CPL), filed an application with the Office of Electricity Delivery and Energy Reliability (OE) of the Department of Energy (DOE) for a Presidential permit. TCC proposes to construct a double circuit 230,000-volt (230-kV) electric transmission line across the U.S.-Mexico international border. In the same application CFE requests DOE rescind Presidential Permit No. PP-57 if the TCC-requested permit is issued.

The existing international transmission facilities authorized in Presidential Permit No. PP-57 consist of a single-circuit 138-kV transmission line that originates at TCC's existing Laredo Power Plant Station, in Laredo, Texas. The facilities continue west approximately 0.3 miles to the Rio Grande River, the U.S.-Mexico international border, and continue to CFE's Ciudad Industrial Station in Laredo Nuevo, Mexico. In its application TCC proposes construct a new 230-kV circuit between the Laredo Power Plant and the CFE system and to rebuild and convert the existing 138-kV facilities to a 230-kV transmission circuit to be operated initially at 138-kV. The proposed double circuit facilities are to be operated as an asynchronous tie using a Variable Frequency Transformer (VFT). The VFT equipment would convert the interconnection with CFE from a block-over synchronous radial feed configuration to a continuous asynchronous connection. The proposed facilities would be constructed on steel monopole structures and would be sited along the center-line of the existing right-of-way. The existing wood transmission structures would be replaced with approximately four steel monopole structures. All facilities and equipment to be constructed, including the VFT, would be placed within the existing fence of the Laredo Power Plant.

TCC has indicated its intention to operate the proposed facilities as an open access transmission facility. If DOE were to grant the Presidential permit requested in OE Docket No. PP-317, it would simultaneously rescind Presidential Permit No. PP-57 issued to CFE.

Procedural Matters

Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Additional copies of such petitions to intervene or protests also should be filed directly with: Terri Gallup, Regulatory Case Manager, American Electric Power Service Corporation, 212 East Sixth Street, Tulsa, OK 74119-1295 and Carolyn Y. Thompson, Esq., Jones Day, 51 Louisiana Avenue, NW., Washington, DC 20001-2113A.

A final decision will be made on this application after the environmental impacts have been evaluated pursuant to the National Environmental Policy Act of 1969, and a determination is made by DOE that the proposed action will not adversely impact on the reliability of the U.S. electric power supply system. In addition, DOE must obtain the concurrence of the Secretary of State and the Secretary of Defense before taking final action on a Presidential permit application.

Copies of this application will be made available, upon request, for public inspection and copying at the address provided above. In addition, copies of the application can be obtained from Ms. Odessa Hopkins at 202-586-7751, or by e-mail at Odessa.Hopkins@hq.doe.gov.

Issued in Washington, DC, on June 14, 2006.
Ellen Russell,
Acting Director, Siting and Permitting, Office of Electricity Delivery and Energy Reliability.

[FR Doc. E6-9634 Filed 6-19-06; 8:45 am]

BILLING CODE 6450-01-P